DEPARTMENT OF HOUSING AND URBAN DEVELOPMENT

[Docket No. FR-5041-N-34]

Notice of Proposed Information Collection: Comment Request; Housing Counseling Training Program

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: November 20, 2006.

ADDRESSES: Interested persons are invited to submit comments regarding this proposal. Comments should refer to the proposal by name and/or OMB Control Number and should be sent to: Lillian Deitzer, Reports Management Officer, Department of Housing and Urban Development, 451 7th Street, SW., L'Enfant Plaza Building, Room 8001, Washington, DC 20410 or Lillian_Deitzer@hud.gov.

FOR FURTHER INFORMATION CONTACT: Miriam Torres, Office of Single Family Program Support Division, Department of Housing and Urban Development, 451 7th Street, SW., Washington, DC 20410, telephone (202) 708-0317, x2628 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Housing Counseling Training Program.

OMB Control Number, if applicable: 2502-NEW.

Description of the need for the information and proposed use: Nonprofit organizations will submit information to HUD through Grants.gov to apply for funding to develop and implement an ongoing training program for housing counselors. HUD will use the information to evaluate applicants competitively and then select one or more organizations to receive funding to develop and implement the ongoing training program. The proposed collection will allow HUD to evaluate and select the most qualified applicant(s). Post-award collection, such as quarterly reports, will allow HUD to evaluate grantee performance.

Agency form numbers, if applicable: SF-424, SF-424Supp, SF-424CB, SF-LLL, SF-2880, HUD-96010, HUD-2994.

Estimation of the total number of hours needed to prepare the information collection including number of respondents, frequency of response, and hours of response: The estimated total number of hours needed to prepare the information collection is 79; the number of respondents is 1 generating approximately 15 annual responses; the frequency of response is on occasion or quarterly; and the estimated time needed to prepare the response varies from 6 minutes to 40 hours.

Status of the proposed information collection: This is new information collection.

Authority: The Paperwork Reduction Act of 1995, 44 U.S.C., Chapter 35, as amended.

Dated: September 14, 2006.
Frank L. Davis,
General Deputy Assistant Secretary for Housing—Deputy Federal Housing Commissioner.

[FR Doc. 06-7815 Filed 9-20-06; 8:45 am]

BILLING CODE 4210-67-P